COMMISSION ON CIVIL RIGHTS

Notice of Public Meeting of the Texas Advisory Committee

AGENCY: U.S. Commission on Civil Rights.

ACTION: Announcement of meetings.

SUMMARY: Notice is hereby given, pursuant to the provisions of the rules and regulations of the U.S. Commission on Civil Rights (Commission) and the Federal Advisory Committee Act (FACA) that the Texas Advisory Committee (Committee) will hold a series of meetings via Webex on Thursday, February 11, Thursday, February 18, Thursday, February 25, and Thursday, March 4, and Monday 15, 2021 at 2:00 p.m. Central Time. The purpose of the meetings is for reviewing the Committee's advisory memorandum on Hurricane Harvey.

DATES: These meetings will be held on:

• Thursday, February 11, 2021 at 2:00 p.m. CT

• Thursday, February 18, 2021 at 2:00 p.m. CT

• Thursday, February 25, 2021 at 2:00 p.m. CT

• Thursday, March 4, 2021 at 2:00 p.m. CT

• Monday, March 15, 2021 at 2:00 p.m. CT

Access for the public can register at:

• Thursday, February 11: https://tinyurl.com/y5lvuq9u

• Thursday, February 18: https://tinyurl.com/y6h7opct

• Thursday, February 25: https://tinyurl.com/y2gr37t4

• Thursday, March 4: https://tinyurl.com/y6yzv46m

• Monday, March 15: https://tinyurl.com/y2vfa3l6

FOR FURTHER INFORMATION CONTACT: Brooke Peery, Designated Federal Officer (DFO) at bpeery@usccr.gov or by phone at (202) 701-1376. The most up-to-date draft of the advisory memorandum will be available to the public 48 hours before each meeting. Please email Brooke Peery at bpeery@usccr.gov if you would like a copy of the draft.

Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012 or email Brooke Peery (DFO) at bpeery@usccr.gov.

Records and documents discussed during the meeting will be available for public viewing prior to and after the meeting at https://www.facadatabase.gov/FACA/FACAPublicViewCommitteeDetails?id=a10t0000001gzkoAAA.

Please click on the “Meeting Details” and “Documents” links. Records generated from this meeting may also be inspected and reproduced at the Regional Programs Unit, as they become available, both before and after the meeting. Persons interested in the work of this Committee are directed to the Commission's website, https://www.usccr.gov, or may contact the Regional Programs Unit at the above email or street address.

Agenda

I. Welcome & Roll Call

II. Approval of Minutes

III. Discussion on Draft

IV. Public Comment

V. Adjournment

Dated: January 4, 2021.
David Mussatt,
Supervisory Chief, Regional Programs Unit.

[FR Doc. 2021-00043 Filed 1-6-21; 8:45 am]

BILLING CODE 6335-01-P